ENVIRONMENTAL PROTECTION AGENCY

40 CFR Part 52

[SIPTRAX NO. MD097-3050a; FRL-6735-4]

Approval and Promulgation of Air Quality Implementation Plans; Maryland; Revised 15% Plan for the Metropolitan Washington, DC Ozone Nonattainment Area

AGENCY: Environmental Protection Agency (EPA).

ACTION: Direct final rule.

SUMMARY: EPA is converting its conditional approval of a State Implementation Plan (SIP) revision submitted by the State of Maryland to a full approval. This revision satisfies the 15 percent reasonable further progress implementation plan (15% plan) requirements of the Clean Air Act (the Act) for Maryland's portion of the Metropolitan Washington, DC ozone nonattainment area (the Washington, DC area). EPA is converting its conditional approval to a full approval because the State has fulfilled the conditions listed in the conditional approval of the original 15% plan for the Maryland portion of the Washington, DC area. The intended effect of this action is to covert our conditional approval of the 15% plan submitted by the State of Maryland to a full approval.

DATES: This direct final rule is effective on September 18, 2000 without further notice, unless EPA receives adverse comment by August 18, 2000. If adverse comment is received, EPA will publish a timely withdrawal of the direct final rule in the Federal Register and inform the public that the rule will not take effect.

ADDRESSES: Comments may be mailed to David L. Arnold, Chief, Ozone and Mobile Sources Branch, Mailcode 3AP21, U.S. Environmental Protection Agency—Region III, 1650 Arch Street, Philadelphia, Pennsylvania, 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the Maryland Department of the Environment, 2500 Broening Highway, Baltimore, Maryland, 21224. Persons interested in examining these documents should schedule an appointment with the contact person (listed below) at least 24 hours before the visiting day. Copies of the documents relevant to this action are also available at the Maryland Department of the Environment, 2500 Broening Highway, Baltimore, Maryland 21224.

FOR FURTHER INFORMATION CONTACT: Christopher Cripps, (215) 814-2179, at the EPA Region III address above, or by e-mail at cripps.christopher@epa.gov. Please note that while questions may be submitted via e-mail, comments on the rulemaking action must be submitted, in writing, to the address listed above.

SUPPLEMENTARY INFORMATION:

I. Background

On May 5, 1998 the Maryland Department of the Environment (MDE) submitted a revision to its SIP for the Washington, DC area. The revision consists of an amended plan to achieve a 15% reduction from 1990 base year levels in volatile organic compound (VOC) emissions. Maryland's original 15% plan for the Maryland portion of the Washington, DC area was conditionally approved on September 23, 1997 (62 FR 49611). Maryland's revisions to its 15% plan were made to satisfy the conditions imposed in the September 23, 1997 conditional approval.

The Washington, DC ozone nonattainment area consists of the District of Columbia, five counties in Northern Virginia and Calvert, Charles, Frederick, Montgomery, and Prince George's Counties in Maryland.

Virginia, Maryland and the District all must demonstrate reasonable further progress for the Washington, DC nonattainment area. The Commonwealth of Virginia, State of Maryland and the District of Columbia in conjunction with municipal planning organizations collaborated on a coordinated 15% plan for the entire Washington, DC area (regional 15% plan). This was done under the auspices of the regional air quality planning committee, the Metropolitan Washington Air Quality Committee (MWAQC), and with the assistance of the local municipal planning organization, the Metropolitan Washington Council of Governments (MWCOG), to ensure coordination of air quality and transportation planning. Although the plan was developed by a regional approach, each jurisdiction is required to submit the 15% plan to EPA for approval as a revision to its SIP.

Because the reasonable further progress requirements such as the 15% plan affect transportation improvement plans, municipal planning organizations have historically been heavily involved in air quality planning in the Washington, DC area. As explained in further detail below, the regional 15% plan determined the regional target level, regional projections of growth and finally the total amount of creditable reductions required under the reasonable further progress requirement in the entire Washington, DC area. Maryland, Virginia and the District agreed to apportion this total amount of required creditable reductions among the three jurisdictions. EPA is taking action today only on Maryland's revised 15% plan submittal for the Washington, DC area. This rulemaking is being taken to convert the September 23, 1997 conditional approval of Maryland's 15% plan for the Washington, DC area to a full approval based upon EPA's determination that Maryland has fulfilled the conditions imposed in the conditional approval.

A. Base Year Emission Inventory

The baseline from which states must determine the required reductions for 15% planning is the 1990 base year emission inventory. The inventory is broken down into several emissions source categories: stationary point, area, on-road mobile sources, and off-road mobile sources. The base year inventory includes emissions of all sources within the nonattainment area and certain large point sources within twenty-five miles of the boundary. A subset of the 1990 base year inventory is the 1990 rate-of-progress (ROP) inventory which includes only anthropogenic (man-made) emissions actually within the nonattainment area boundaries. EPA approved this base year inventory SIP revision for the entire Washington, DC area on July 8, 1998 (63 FR 36854).

B. Growth in Emissions Between 1990 and 1996

EPA has interpreted the Act to require that reasonable further progress towards attainment of the ozone standard must be obtained after offsetting any growth expected to occur over that period. Therefore, to meet the 15% reasonable further progress requirement, a state must enact measures achieving sufficient emissions reductions to offset projected growth in VOC emissions, in addition to a 15% reduction of VOC emissions. For a detailed description of the growth methodologies used by the State, please refer to EPA's conditional approval of Maryland's 15% plan (62 FR 49611, September 23, 1997) and the Technical Support Document (TSD) for that action.

The one area of concern relating to growth projections in the original 15% plan was that of the point source inventory. Condition 1 of the September 23, 1997 (62 FR 49611) conditional approval required that Maryland revise its plan to properly account for growth in point sources between 1990 and 1996. EPA's analysis of the revised 15% plan supports removal of this condition, since Maryland used the appropriate methodology in reappraising its point source inventory growth between 1990 and 1996.

EPA here notes that the revised 15% plan has a point source inventory number that differs from Maryland's SIP approved inventory—5.3 tons per day (tpd) in the revised 15% plan submittal versus 5.5 tpd in the approved inventory. EPA is not revising the SIP approved inventory by this action. The 5.3 tpd number is acceptable for use in the revised 15% plan, since the discrepancy serves to lower the 15% plan's target level, thus making the plan's VOC reductions more restrictive than required if one were to use the approved inventory numbers. EPA is approving the State of Maryland's 1990-1996 emissions growth projections in this revised 15% plan.

C. Enhanced Vehicle Inspection and Maintenance (I/M) Program

Condition 2 of EPA's conditional approval of the original 15% plan required Maryland to meet the conditions EPA imposed in its October 31, 1996 conditional approval of Maryland's enhanced motor vehicle inspection and maintenance (I/M) program. Maryland was also required to remodel the I/M benefits claimed in the 15% plan using the following two EPA guidance memoranda: “Date by which States Need to Achieve all the Reductions Needed for the 15 Percent Plan from I/M and Guidance for Recalculation,” from John Seitz and Margo Oge dated August 13, 1996, and “Modeling 15% VOC Reductions from I/M in 1999—Supplemental Guidance,” from Gay MacGregor and Sally Shaver dated December 23, 1996.

Maryland has remedied condition 2 imposed on its original 15% plan. On October 29, 1999 (64 FR 58340), EPA published a direct final rule converting its October 31, 1996 conditional approval of the Maryland Enhanced I/M SIP revision to a full approval. This was done because EPA determined that all of the conditions of the October 31, 1996 conditional approval of the enhanced I/M SIP had been satisfied by the State of Maryland. Further, EPA has determined that Maryland has appropriately remodeled the I/M benefits of the program, and that there are no adverse affects on the 15% plan due to this remodeling.

D. Target Level Emissions/Emission Reductions Needs

As part of the conditional approval of its original 15% plan, Maryland was required to remodel to determine affirmatively the creditable reductions from reformulated gasoline (RFG) and the Tier 1 FMVCP in accordance with EPA guidance. Maryland was required to remodel the benefits of enhanced I/M, RFG and Tier 1 under the revised plan. This remodeling demonstration was to compare the mobile source target level in 1999 versus the target level for mobile sources which was created for the original plan.

EPA concurs with the remodeling demonstration submitted as part of the revised 15% plan, and with the revised mobile source target level calculation. Maryland's portion of the corrected target level is 178.6 tpd.

The regional 15% plan calculates a target level of emissions to meet the 15% reasonable further progress requirement over the entire nonattainment area. The regional 15% plan contains a projection of emissions growth from 1990 to 1996 and, in effect, apportions among Maryland, Virginia and the District of Columbia (the three jurisdictions) the amount of creditable emission reductions that each jurisdiction must achieve in order for the entire nonattainment area to achieve a 15% reduction in VOC emissions net of growth. Each jurisdiction then adopted the regional plan, which identified the amount of creditable emission reductions which that jurisdiction must achieve for the regional plan to get a 15% reduction accounting for any growth. The regional plan calculated the “target level” of 1996 VOC emissions, in accordance with applicable EPA guidance.

EPA has interpreted section 182(b) of the Act to require that the base year VOC emission inventory be adjusted to account for reductions in VOC emissions that would have occurred from the pre-1990 FMVCP and RVP programs. To meet EPA's applicable guidance on this requirement, the regional plan contains a calculation of the reductions occurring between 1990 and 1996 from the pre-1990 Tier 0 FMVCP and RVP programs and the result of subtracting these reductions from the 1990 ROP inventory. The net result of this calculation yielded the “1990 base year inventory adjusted to 1996”.

Maryland's 15% plan relies upon reductions from Maryland's revised, enhanced I/M program to achieve the required 15% level as soon after November 15, 1996 as practicable, but not later than 1999. Under EPA's applicable guidance for 15% plans that rely upon reductions from enhanced I/M after 1996, the target level must also take into account the effects of the pre-1990 Tier 0 FMVCP on 1990 emissions due to turnover in vehicles between 1996 and 1999. Therefore, to meet EPA's applicable guidance for this requirement, Maryland's 15% plan contains a calculation of the non-creditable reductions from the pre-1990 Tier 0 FMVCP and RVP programs between 1990 and 1999 and the result of subtracting these reductions from the 1990 ROP inventory. The result of this calculation yielded the “1990 base year inventory adjusted to 1999.” Maryland's 15% plan clearly identifies the difference between the “1990 base year inventory adjusted to 1996” and “1990 base year inventory adjusted to 1999” as the “fleet turnover correction” (FTC) necessary to meet EPA's guidance.

In its plan, Maryland calculates a “base” 1996 VOC target level as 85% of the “1990 adjusted base year inventory for 1996.” In accordance with EPA's guidance discussed in the preceding paragraph, Maryland subtracts the FTC from the “base” 1996 VOC target level to yield a “final” 1996 VOC target level for the 15% plan. In Table 1 below, we have provided a summary of the calculations for the 1996 VOC target level for the entire Washington, DC area.

Metropolitan Washington, DC Nonattainment Area Target Level Calculation

Table 1.—Required Reductions for the Metropolitan Washington, DC Nonattainment Area 15% Plan
[Tons/day]
| Item | District of Columbia | Maryland | Virginia | Washington DC area totals
1 | 1990 ROP Inventory | 60.3 | 241.7 | 226.5 | 528.5
2 | 1990 Adjusted Base Year Inventory adjusted to 1996 | 51.2 | 215.1 | 196.8 | 463.1
3 | 1990 Adjusted Base Year Inventory adjusted to 1999 | 49.9 | 210.9 | 193.3 | 454.1
4 | FTC Adjustment (Line 2 minus Line 3) | 1.3 | 4.2 | 3.5 | 9.0
5 | Base 1996 target Level = 85% of Line 2 (0.85 × Line 2) | 43.5 | 182.8 | 167.3 | 393.6
6 | Final 1996 Regional Target Level (Line 5 minus Line 4) | 42.2 | 178.6 | 163.8 | 384.6
7 | Projected 1996 Uncontrolled Emissions | 48.5 | 234.7 | 219.4 | 502.4
8 | Required Regional Emission Reductions (Line 8 minus Line 7)* |  |  |  | 117.8
9 | Apportioned State Emission Reductions* | 8.5 | 57.5 | 51.7 | 117.7
10 | Total Reductions Claimed in Maryland's15% Plan |  | 61.9 |  |
* The small discrepancy between values is due to rounding the apportioned emission reductions to the nearest tenth.

The emission reductions required to meet the 15% reasonable further progress requirement equals the difference between the projected 1996 emissions under the current control strategy (the 1996 uncontrolled emissions) and the target level. This amount of emission reductions reflects a 15% reduction from the adjusted base year inventory and any reductions necessary to offset emissions growth projected to occur between 1990 and 1996. The Washington, DC area's regional VOC target level is 384.8 tpd. EPA has determined that this regional target level and emission reduction needed for the Washington, DC area have been properly calculated in accordance with EPA guidance.

The three Washington, DC area jurisdictions have agreed to apportion the amount of emisson reductions needed for the entire area to achieve the 15% reduction among themselves. This apportionment is also shown in Table 1 above. Maryland's share is 57.5 tpd.

E. Reasonable Further Progress

The final condition for full approval of the 15 % plan was for Maryland to demonstrate, using appropriate documentation methodologies and credit calculations, that it had satisfied the 15 % plan requirement for the Washington, DC area. As part of the revised 15% plan, recalculations to the inventory, target level and 15 % reduction amounts were adjusted. Under the new plan, Maryland's portion of the 15% plan requirement increased from 56.4 tpd to 57.5 tpd.

EPA agrees with the credit calculation methodology used in the revised plan to justify this number. As demonstrated in Chapter 5 of the revised plan SIP submittal, appropriate assumptions and calculation methodologies were employed, as per EPA guidance, in calculating the new figures. EPA therefore concurs that Maryland must achieve at least 57.5 tpd in creditable emission reductions to demonstrate that Maryland has met its 15% VOC reduction requirement for the Washington, DC area.

EPA believes that Maryland's revised plan has made all the necessary corrections to establish the creditability of sufficient control measures to met the 15% VOC reduction requirement. Maryland has demonstrated there are sufficient creditable measures in the revised 15% plan to achieve at least 60.1 tpd of reductions. This 60.1 tpd reduction results from either rules promulgated by EPA or measures contained in the approved Maryland SIP.

Table 2 below summarizes the creditable measures from Maryland's 15% plan for the Washington, DC area.

Table 2.—Creditable Reductions in Maryland's 15% Plan for the Metropolitan Washington, DC Nonattainment Area
[Tons VOC per day]
Creditable reductions |
Enhanced Inspection and Maintenance | 19.0
Tier 1 FMVCP | 6.3
Phase II Gasoline Volatility Controls | 0.1
Stage II Recovery Nozzles | 7.9
Reformulated Gasoline:
On-Road | 4.1
Off-Road | 1.0
Auto Refinishing | 3.8
AIM—Reformulated Surface Coating | 7.6
Reformulated Consumer/Commercial Products | 2.1
Stage I Enhancement | 0.9
Surface Cleaning and Degreasing | 2.6
Graphic Arts | 1.0
Seasonal Open Burning Ban | 3.7
Total Fully Creditable Reductions | 60.1

F. Transportation Conformity Budgets

As is the case with any 15% plan, Maryland's 15% plan for the Washington, DC area contains a budget for VOC emissions from on-road mobile sources. By approving Maryland's 15% plan, EPA is granting a de facto approval of the budget in this plan. However, EPA wishes to clarify that the budget in Maryland's 15% plan will not be the applicable budget for any future conformity determinations because there are budgets for the Washington, DC area that apply in 1999 and all subsequent years. To verify which budgets apply in the Washington, DC area, please contact the EPA Regional office listed in the ADDRESSES section above or consult EPA's “Adequacy Review of SIP Submissions for Conformity” web page at http://www.epa.gov/oms/transp/conform/adequacy.htm.

EPA's review of this material indicates that Maryland's revised 15% plan SIP revision meets the requirements of the Act and applicable EPA guidance. EPA is therefore converting its conditional approval of Maryland's 15% plan to a full approval.

EPA is converting its conditional approval of Maryland 15% plan to a full approval by this rule without prior proposal because the Agency views this as a noncontroversial amendment and anticipates no adverse comments. However, in the proposed rules section of this Federal Register publication, EPA is publishing a separate document that will serve as the proposal to convert the conditional approval to a full approval should adverse or critical comments be filed. This rule will be effective September 18, 2000 without further notice unless the Agency receives adverse comments by August 18, 2000. If EPA receives such comments, then EPA will publish a document withdrawing the final rule and informing the public that the rule will not take effect. All public comments received will then be addressed in a subsequent final rule based on the proposed rule. EPA will not institute a second comment period on the proposed rule. Only parties interested in commenting on this action should do so at this time. If no such comments are received, the public is advised that this rule will be effective on September 18, 2000 and no further action will be taken on the proposed rule.

II. Final Action

EPA is converting its conditional approval of Maryland's 15% plan for its portion of the Metropolitan Washington, DC ozone nonattainment area to a full approval based upon the evaluation of the SIP revision submittal made by Maryland on May 5, 1998 consisting of its revised 15% plan.

III. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by September 18, 2000. Filing a petition for reconsideration by the Administrator of this final rule does not affect the finality of this rule for the purposes of judicial review nor does it extend the time within which a petition for judicial review may be filed, and shall not postpone the effectiveness of such rule or action. This action converting EPA's conditional approval of Maryland's 15% plan for Metropolitan Washington, DC ozone nonattainment area to a full approval may not be challenged later in proceedings to enforce its requirements. (See section 307(b)(2).)

List of Subjects in 40 CFR Part 52

Environmental protection, Air pollution control, Hydrocarbons, Intergovernmental relations, Ozone, Reporting and recordkeeping requirements.

Dated: June 30, 2000.
Bradley M. Campbell,
Regional Administrator, Region III.

40 CFR part 52 of chapter I, title 40 is amended as follows:

PART 52—[AMENDED]

1. The authority citation for part 52 continues to read as follows:

Authority: 42 U.S.C. 7401 et seq.

Subpart V—Maryland

2. Section 52.1072(b) is removed and reserved.

§ 52.1072 Conditional approval.

(a) * * *

(b) [Reserved.]

3. Section 52.1076 is amended by revising the title and adding paragraph (d) to read as follows:

§ 52.1076 Control strategy and rate-of-progress plans: ozone.

* * * * *

(d) EPA approves the Maryland's 15 Percent Rate of Progress Plan for the Maryland portion of the Metropolitan Washington, D.C. ozone nonattainment area, submitted by the Secretary of the Maryland Department of the Environment on May 5, 1998.

[FR Doc. 00-18110 Filed 7-18-00; 8:45 am]

BILLING CODE 6560-50-P